DEPARTMENT OF DEFENSE

Office of the Secretary

[Docket ID: DoD-2024-OS-0147]

Proposed Collection; Comment Request

AGENCY: Office of the Under Secretary of Defense for Policy, Department of Defense (DoD).

ACTION: 60-Day information collection notice.

SUMMARY: In compliance with the Paperwork Reduction Act of 1995, the Defense Security Cooperation Agency announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 3, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Security Cooperation Agency, 2800 Defense Pentagon, Washington, DC 20301, Robert Weber, 937-713-3275.

SUPPLEMENTARY INFORMATION: Title, Associated Form, and OMB Number: The Defense Institute of Security Assistance Management Information Technology Mission System; Defense Institute of Security Assistance Management Form GSI-001; OMB Control Number 0704-0548.

Needs and Uses: The Defense Institute of Security Assistance Management (DISAM) Information Technology Mission System is a web-based portal designed to hold several web applications for the purposes of efficient administration of U.S. and international students and the effective management of DISAM personnel and guest lecturers. The portal provides DISAM personnel the ability to submit travel requests and travel arrangements. Finally, the web-based portal uses a relational database to record, manage and report information about students, personnel, and travel. Reports of annual training of foreign nationals will be submitted to Congress as required by 22 U.S. Code 2394 (Foreign Assistance Act (FAA)) and 22 U.S. Code 2770A (Arms Export Control Act (AECA)).

Affected Public: Individuals and households.

Annual Burden Hours: 2,512.

Number of Respondents: 5,024.

Responses per Respondent: 2.

Annual Responses: 10,048.

Average Burden per Response: 15 minutes.

Frequency: On occasion.

Dated: December 26, 2024.
Aaron T. Siegel,
Alternate OSD Federal Register, Liaison Officer, Department of Defense.

[FR Doc. 2024-31399 Filed 12-30-24; 8:45 am]

BILLING CODE 6001-FR-P